DEPARTMENT OF AGRICULTURE

Animal and Plant Health Inspection Service

[Docket No. APHIS-2012-0052]

Oral Rabies Vaccine Trial; Availability of an Environmental Assessment and Finding of No Significant Impact

AGENCY: Animal and Plant Health Inspection Service, USDA.

ACTION: Notice.

SUMMARY: We are advising the public that the Animal and Plant Health Inspection Service has prepared an environmental assessment and finding of no significant impact relative to an oral rabies vaccination field trial in New Hampshire, New York, Ohio, Vermont, and West Virginia. Based on its finding of no significant impact, the Animal and Plant Health Inspection Service has determined that an environmental impact statement need not be prepared.

FOR FURTHER INFORMATION CONTACT: Mr. Richard Chipman, Rabies Program Coordinator, Wildlife Services, APHIS, 59 Chennell Drive, Suite 7, Concord, NH 03301; (603) 223-9623. To obtain copies of the environmental assessment or finding of no significant impact, contact Ms. Beth Kabert, Environmental Coordinator, Wildlife Services, 140-C Locust Grove Road, Pittstown, NJ 08867; (908) 735-5654, fax (908) 735-0821, email: beth.e.kabert@aphis.usda.gov.

SUPPLEMENTARY INFORMATION:

Background

The Wildlife Services (WS) program in the Animal and Plant Health Inspection Service (APHIS) cooperates with Federal agencies, State and local governments, and private individuals to research and implement the best methods of managing conflicts between wildlife and human health and safety, agriculture, property, and natural resources. Wildlife-borne diseases that can affect domestic animals and humans are among the types of conflicts that APHIS-WS addresses. Wildlife is the dominant reservoir of rabies in the United States.

On July 9, 2012, we published in the Federal Register (77 FR 40322-40323, Docket No. APHIS-2012-0052) a notice ¹ in which we announced the availability, for public review and comment, of an environmental assessment (EA) that examined the potential environmental impacts associated with the proposed field trial to test the safety and efficacy of an experimental oral rabies vaccine for wildlife in New Hampshire, New York, Ohio, Vermont, and West Virginia.

¹ To view the notice, the comments we received, the EA, and the FONSI, go to http://www.regulations.gov/#!docketDetail;D=APHIS-2012-0052.

We solicited comments on the EA for 30 days ending August 8, 2012. We received nine comments by that date. They were from private citizens (including five comments from the same individual), a foreign government, a Federal agency, and a State department of health. Three commenters expressed support for the proposed field trial. One commenter indicated we should prepare an environmental impact statement rather than an EA for this action but did not provide a reason for doing so. Other issues raised by commenters include concerns regarding possible effects on public health and whether the field trial is necessary. The comments, and APHIS' responses to the comments, are presented in an appendix to the EA (see footnote 1).

In this document, we are advising the public of our finding of no significant impact (FONSI) regarding the implementation of a field trial to test the safety and efficacy of the AdRG1.3 wildlife rabies vaccine in New Hampshire, New York, Ohio, Vermont, and West Virginia, including portions of U.S. Department of Agriculture (USDA) Forest Service National Forest System lands, but excluding Wilderness Areas. The finding, which is based on the EA, reflects our determination that the distribution of this experimental wildlife rabies vaccine will not have a significant impact on the quality of the human environment.

The EA and FONSI may be viewed on the APHIS Web site at http://www.aphis.usda.gov/regulations/ws/ws_nepa_environmental_documents.shtml and on the Regulations.gov Web site (see footnote 1). Copies of the EA and FONSI are also available for public inspection at USDA, Room 1141, South Building, 14th Street and Independence Avenue SW., Washington, DC, between 8 a.m. and 4:30 p.m., Monday through Friday, except holidays. Persons wishing to inspect copies are requested to call ahead on (202) 799-7039 to facilitate entry into the reading room. In addition, copies may be obtained as described under FOR FURTHER INFORMATION CONTACT.

The EA and FONSI have been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 13th day of August 2012.
Peter Fernandez,
Acting Administrator, Animal and Plant Health Inspection Service.

[FR Doc. 2012-20174 Filed 8-13-12; 4:15 pm]

BILLING CODE 3410-34-P